DEPARTMENT OF HOMELAND SECURITY

Coast Guard

33 CFR Part 100

[Docket No. USCG-2018-0725]

Special Local Regulations; Marine Events Within the Fifth Coast Guard District

AGENCY: Coast Guard, DHS.

ACTION: Notice of enforcement of regulation.

SUMMARY: The Coast Guard will enforce special local regulations for the Baltimore Air Show from October 4, 2018, through October 7, 2018, to provide for the safety of life on navigable waterways during the event. Our regulation for marine events within the Fifth Coast Guard District identifies the regulated area for the event. During the enforcement period, the Coast Guard patrol commander or designated marine event patrol may forbid and control the movement of all vessels in the regulated area.

DATES: The regulations in 33 CFR 100.501 will be enforced for the Baltimore Air Show regulated area listed in item b.23 in the table to § 100.501 from 11 a.m. through 5 p.m. on October 4, 2018, from 10:30 a.m. through 5 p.m. on October 5, 2018, from 11 a.m. through 5 p.m. on October 6, 2018, and from 11 a.m. through 5 p.m. on October 7, 2018.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: The Coast Guard was notified by the Historic Ships in Baltimore, Inc., on February 6, 2018, through submission of a marine event application that, due to a scheduling change, a change of dates is necessary to the dates previously published in the Code of Federal Regulations (CFR) for the biennially scheduled Baltimore Air Show, as listed in the table to 33 CFR 100.501. The date of the event for this year is changed to October 4, 2018, through October 7, 2018. The Coast Guard will enforce the special local regulations in 33 CFR 100.501 for the Baltimore Air Show regulated area from 11 a.m. through 5 p.m. on October 4, 2018, from 10:30 a.m. through 5 p.m. on October 5, 2018, from 11 a.m. through 5 p.m. on October 6, 2018, and from 11 a.m. through 5 p.m. on October 7, 2018. Our regulation for marine events within the Fifth Coast Guard District, § 100.501, specifies the location of the regulated area for the Baltimore Air Show, which encompasses portions of the Patapsco River, at Baltimore, MD.

This action is being taken to provide for the safety of life on navigable waterways during the event. As specified in § 100.501(c), during the enforcement period, the Coast Guard patrol commander or designated marine event patrol may forbid and control the movement of all vessels in the regulated area. Vessel operators may request permission to enter and transit through a regulated area by contacting the Coast Guard patrol commander on VHF-FM channel 16.

In addition to this notice of enforcement in the Federal Register, the Coast Guard plans to provide notification of this enforcement period via the Local Notice to Mariners and marine information broadcasts.

Dated: August 7, 2018.
Joseph B. Loring,
Captain, U.S. Coast Guard, Captain of the Port Maryland-National Capital Region.

[FR Doc. 2018-17282 Filed 8-10-18; 8:45 am]

BILLING CODE 9110-04-P